DEPARTMENT OF THE TREASURY

Customs Service

Fee for Electronic Fingerprinting

AGENCY: Customs Service, Treasury.

ACTION: General notice.

SUMMARY: This document announces an increase in the fee for fingerprinting at airports at which there is a computerized fingerprint identification system for the use of conducting background checks on airline and airport employees who require unescorted access to Federal Inspection Service areas of an airport. The fee will be raised to $43.50.

EFFECTIVE DATE: January 29, 2001.

FOR FURTHER INFORMATION CONTACT: Linda Slattery, U.S. Customs Service, Office of Field Operations, Passenger Programs, Room 5.4D, 1300 Pennsylvania Avenue, NW, Washington, DC, 20029, Tel. (202) 927-4434.

SUPPLEMENTARY INFORMATION:

Background

On July 11, 2000, Customs published a document in the Federal Register (65 FR 42766) regarding the implementation, at certain airports, of a computerized fingerprint identification system (Integrated Automated Fingerprint Inspection System (IAFIS)) for the use of conducting background checks on airline and airport employees who require unescorted access to Federal Inspection Service areas of an airport. The IAFIS employs an automated fingerprint reading device that electronically transmits the fingerprint data directly to the Federal Bureau of Investigation (FBI) where a criminal history background search can be conducted within 24 hours, instead of the four to seven weeks it normally takes to manually process fingerprint cards. Where implemented, this computerized fingerprinting system will be used in lieu of collecting fingerprints on cards.

Customs announced in the July 11 Federal Register notice that the fee for this computerized fingerprinting would be $39.00. The fee is based on Customs recovering the FBI user-fee that is charged to Customs for conducting fingerprint checks and Customs administrative processing costs associated with the collection of fingerprints, which include the compensation and/or expenses of Customs officers performing the fingerprint service and 15% of that amount to cover Customs administrative overhead costs.

Primarily because the fee charged Customs by the FBI has been increased, Customs is announcing that it must increase the fee for fingerprinting at airports utilizing the IAFIS. The fee will be raised to $43.50 to offset the fee being charged Customs by the Federal Bureau of Investigation.

Dated: January 22, 2001.
Charles W. Winwood,
Acting Commissioner.

[FR Doc. 01-2423 Filed 1-26-01; 8:45 am]

BILLING CODE 4820-02-P